DEPARTMENT OF ENERGY

10 CFR Parts 429 and 431

[EERE-2021-BT-TP-0021]

Energy Conservation Program: Test Procedures for Fans and Blowers

AGENCY: Office of Energy Efficiency and Renewable Energy, Department of Energy.

ACTION: Request for information.

SUMMARY: The U.S. Department of Energy (“DOE”) is undertaking the preliminary stages of a rulemaking to consider potential test procedures for fans and blowers, including air circulating fan heads. Through this request for information (“RFI”), DOE seeks data and information regarding issues pertinent to whether new test procedures would accurately and fully comply with the requirement that a test procedure measures energy use during a representative average use cycle for the equipment without being unduly burdensome to conduct. DOE welcomes written comments from the public on any subject within the scope of this document (including topics not raised in this RFI), as well as the submission of data and other relevant information.

DATES: Written comments and information are requested and will be accepted on or before November 1, 2021.

ADDRESSES: Interested persons are encouraged to submit comments using the Federal eRulemaking Portal at www.regulations.gov. Follow the instructions for submitting comments. Alternatively, interested persons may submit comments, identified by docket number EERE-2021-BT-TP-0021, by any of the following methods:

1. Federal eRulemaking Portal: www.regulations.gov. Follow the instructions for submitting comments.

2. Email: to FansBlowers2021TP0021@ee.doe.gov. Include docket number EERE-2021-BT-TP-0021 in the subject line of the message.

No telefacsimiles (“faxes”) will be accepted. For detailed instructions on submitting comments and additional information on this process, see section III of this document.

Although DOE has routinely accepted public comment submissions through a variety of mechanisms, including the Federal eRulemaking Portal, email, postal mail, or hand delivery/courier, the Department has found it necessary to make temporary modifications to the comment submission process in light of the ongoing Covid-19 pandemic. DOE is currently suspending receipt of public comments via postal mail and hand delivery/courier. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www1.eere.energy.gov/buildings/appliance_standards/product.aspx/productid/65. The docket web page contains instructions on how to access all documents, including public comments, in the docket. See section III for information on how to submit comments through www.regulations.gov.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: amelia.whiting@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority and Background

B. Rulemaking History

II. Request for Information

A. Scope and Definitions

1. Definition

2. Scope

B. Test Procedure

1. Industry Standards

2. Metric

3. Sampling

III. Submission of Comments

I. Introduction

On August 19, 2021, DOE published a final determination that fans and blowers are covered equipment for the purpose of the “Energy Conservation Program for Certain Industrial Equipment” under the Energy Policy and Conservation Act, as amended (“EPCA”),¹ (42 U.S.C. 6311-6317 as codified). 86 FR 46579. There are currently no DOE test procedures for fans and blowers, including air circulating fan heads. The following sections discuss DOE's authority to establish test procedures for fans and blowers, including air circulating fan heads (“ACFHs”), as well as relevant background information regarding DOE's consideration of potential test procedures for this equipment.

¹ All references to EPCA in this document refer to the statute as amended through the Energy Act of 2020, Public Law 116-260 (Dec. 27, 2020).

A. Authority and Background

EPCA authorizes DOE to regulate the energy efficiency of a number of consumer products and certain industrial equipment. (42 U.S.C. 6291-6317) Title III, Part C ² of EPCA, added by Public Law 95-619, Title IV, section 441(a) (42 U.S.C. 6311-6317, as codified), established the Energy Conservation Program for Certain Industrial Equipment, which sets forth a variety of provisions designed to improve energy efficiency of certain commercial and industrial equipment (hereafter referred to as “covered equipment”). The purpose of Part A-1 is to improve the efficiency of electric motors and pumps and certain other industrial equipment in order to conserve the energy resources of the Nation. (42 U.S.C. 6312(a))

² For editorial reasons, upon codification in the U.S. Code, Part C was redesignated Part A-1 and hereafter referred to as Part A-1.

EPCA specifies a list of equipment that constitutes covered equipment.³ EPCA also provides that “covered equipment” includes any other type of industrial equipment for which the Secretary of Energy (“Secretary”) determines inclusion is necessary to carry out the purpose of Part A-1. (42 U.S.C. 6311(1)(L); 42 U.S.C. 6312(b)) EPCA specifies the types of equipment that can be classified as industrial equipment. (42 U.S.C. 6311(2)(B). This equipment includes fans and blowers. (42 U.S.C. 6311(2)(B)(ii) and (iii)). Industrial equipment must be of a type that consumes, or is designed to consume, energy in operation; is distributed in commerce for industrial or commercial use ⁴; and is not a covered product as defined in 42 U.S.C. 6291(a)(2) of EPCA other than a component of a covered product with respect to which there is in effect a determination under section 6312(c). (42 U.S.C. 6311(2)(A)).

³ “Covered equipment” means one of the following types of industrial equipment: Electric motors and pumps; small commercial package air conditioning and heating equipment; large commercial package air conditioning and heating equipment; very large commercial package air conditioning and heating equipment; commercial refrigerators, freezers, and refrigerator-freezers; automatic commercial ice makers; walk-in coolers and walk-in freezers; commercial clothes washers; packaged terminal air-conditioners and packaged terminal heat pumps; warm air furnaces and packaged boilers; and storage water heaters, instantaneous water heaters, and unfired hot water storage tanks. (42 U.S.C. 6311(1)(A)-(K))

⁴ DOE notes that distribution for residential use does not preclude coverage as covered equipment so long as the equipment is of a type that is also distributed in commerce for industrial and commercial use.

On August 19, 2021, DOE determined that the inclusion of fans and blowers as covered equipment was necessary to carry out the purpose of Part A-1 and classified fans and blowers as covered equipment. 86 FR 46579.

The energy conservation program under EPCA consists essentially of four parts: (1) Testing, (2) labeling, (3) Federal energy conservation standards, and (4) certification and enforcement procedures. Relevant provisions of EPCA include definitions (42 U.S.C. 6311), test procedures (42 U.S.C. 6314), labeling provisions (42 U.S.C. 6315), energy conservation standards (42 U.S.C. 6313), and the authority to require information and reports from manufacturers (42 U.S.C. 6316).

Federal energy efficiency requirements for covered equipment established under EPCA generally supersede State laws and regulations concerning energy conservation testing, labeling, and standards. (42 U.S.C. 6316(a) and (b); 42 U.S.C. 6297). DOE may, however, grant waivers of Federal preemption for particular State laws or regulations, in accordance with the procedures and other provisions of EPCA. (42 U.S.C. 6316(b)(2)(D)).

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA.⁵ (42 U.S.C. 6316(a); 42 U.S.C. 6295(s))

⁵ There are currently no energy conservation standards for fans and blowers.

Under 42 U.S.C. 6314, EPCA sets forth the criteria and procedures DOE must follow when prescribing or amending test procedures for covered equipment. EPCA requires that any test procedures prescribed or amended under this section must be reasonably designed to produce test results which reflect energy efficiency, energy use or estimated annual operating cost of a given type of covered equipment during a representative average use cycle and requires that test procedures not be unduly burdensome to conduct. (42 U.S.C. 6314(a)(2))

Before prescribing any final test procedures under this section, the Secretary must publish proposed test procedures in the Federal Register, and afford interested persons an opportunity (of not less than 45 days' duration) to present oral and written data, views, and arguments on the proposed test procedures. (42 U.S.C. 6314(b))

B. Rulemaking History

As noted, on August 19, 2021, DOE published in the Federal Register a final coverage determination classifying fans and blowers as covered equipment (“August 2021 Final Coverage Determination”). 86 FR 46579. DOE established that the term “blower” is interchangeable with the term “fan”. 86 FR 46579, 46583. DOE also defined a fan or blower as “a rotary bladed machine used to convert electrical or mechanical power to air power, with an energy output limited to 25 kilojoule (kJ)/kilogram (kg) of air. It consists of an impeller, a shaft and bearings and/or driver to support the impeller, as well as a structure or housing. A fan or blower may include a transmission, driver, and/or motor controller.” 86 FR 46579, 46590; See 10 CFR 431.172. Further, DOE determined that fans and blowers are industrial equipment as specified by EPCA and classified fans and blowers as covered equipment.⁶ The definition of “industrial equipment” explicitly excludes covered products, other than a component of a covered product. (42 U.S.C. 6311(2)(A)(iii)). Therefore, the definition of “fan and blower” does not apply to ceiling fans or furnace fans, both covered products defined at 10 CFR 430.2. 86 FR 46579, 46584-46585.

⁶ “Industrial equipment” is any article of specifically listed equipment that is of a type, which (1) in operation consumes, or is designed to consume, energy; (2) to any significant extent, is distributed in commerce for industrial or commercial use; (3) is not a “covered product,” and (4) for which the Secretary has determined coverage is necessary to carry out the purpose of Part A-1. (42 U.S.C. 6311(2)(A); 42 U.S.C. 6312(b))

To date DOE has not proposed test procedures or energy conservation standards for fans and blowers. Prior to the August 2021 Final Coverage Determination, on January 10, 2020, DOE received a petition from AMCA, Air Conditioning Contractors of America, and Sheet Metal & Air Conditioning Contractors of America (“the Petitioners”) requesting that DOE establish test procedures for certain categories of commercial and industrial fans based on an upcoming industry test method, AMCA 214.⁷ DOE published a notice of petition and request for public comment (“April 2020 Notice of Petition”). 85 FR 22677, 22677-22678 (April 23, 2020).

⁷ At the time of the petition, AMCA 214-21 was available as a draft version (AMCA 214).

To date, DOE has not proposed test procedures or energy conservation standards for fans and blowers, including ACFHs. DOE has identified a number of issues specific to potential test procedures for ACFHs that may benefit from public input.

II. Request for Information

In the following sections, DOE has identified a variety of issues on which it seeks input to determine whether, and if so how, potential test procedures for fans and blowers, including ACFHs, would (1) comply with the requirements in EPCA that test procedures be reasonably designed to produce test results which reflect energy use during a representative average use cycle, and (2) not be unduly burdensome to conduct (42 U.S.C. 6314(a)(2)). Additionally, DOE welcomes comments on any aspect related to the potential test procedures for fans and blowers, including ACFHs that may not specifically be identified in this document.

A. Fans and Blowers

Although EPCA lists fans and blowers as types of industrial equipment, these terms are not defined. (See 42 U.S.C. 6311(2)(B)(ii) and (B)(iii)) As noted, DOE has established a definition for “fans”.⁸ As industrial equipment, this equipment excludes ceiling fans and furnace fans, both covered products defined at 10 CFR 430.2. (See 10 CFR 431.171) In the August 2021 Notice of Final Coverage Determination, DOE determined that the definition appropriately covered fans and blowers that are industrial equipment as specified by EPCA. 86 FR 46579, 46585. DOE is publishing this RFI to provide for additional public comment on issues specific to potential test procedures for fans and blowers, including air circulating fan heads, following the final coverage determination i.e., the August 2021 Notice of Final Coverage Determination.

⁸ “A fan (or blower) means a rotary bladed machine used to convert electrical or mechanical power to air power, with an energy output limited to 25 kilojoule (kJ) per kilogram (kg) of air. It consists of an impeller, a shaft and bearings and/or driver to support the impeller, as well as a structure or housing. A fan (or blower) may include a transmission, driver, and/or motor controller.” (10 CFR 431.172)

B. Scope and Definitions for ACFHs

1. Definition

ACFHs that are the subject of this RFI are designed to provide concentrated directional airflow and consist of a motor, impeller and guard for mounting on a pedestal, wall mount bracket, ceiling mount bracket, I-beam bracket or other mounting means. ACFHs are different from ceiling fans, which are designed to circulate air rather than provide concentrated directional airflow. As a result, ACFHs have lower diameter-to-maximum operating speed ratio (expressed in inches per revolutions per minute (“in/RPM”)) than ceiling fans.

As previously noted, fans and blowers are defined at 10 CFR 431.172. DOE does not currently define air circulating fans heads. The American National Standards Institute (“ANSI”)/Air Movement and Control Association International, Inc. (“AMCA”) Standard 230-15, “Laboratory Methods of Testing Air Circulating Fans for Rating and Certification” (“AMCA 230-15”) ⁹ is the industry test procedure for air circulating fans, which include ACFHs.¹⁰ Section 5.1 of AMCA 230-15 defines an “air circulating fan” as “a non-ducted fan used for the general circulation of air within a confined space”. It further classifies ACFHs as a category of air circulating fans and is defined in Section 5.1.1 of AMCA 230-15 as follows: “an assembly consisting of a motor, impeller and guard for mounting on a pedestal having a base and column, wall mount bracket, ceiling mount bracket, I-beam bracket or other commonly accepted mounting means.”

⁹ AMCA 230-15 was approved by ANSI on October 16, 2015.

¹⁰ In addition to ACFHs, AMCA 230-15 defines four other categories of air circulating fans: (1) Ceiling fans (the subject of a separate DOE rulemaking as discussed in this document); (2) personnel coolers (“a fan used in shops, factories, etc. Generally supplied with wheels or casters on the housing or frame to aid in portability, and with motor and impeller enclosed in a common guard and shroud”); (3) box fans (“a fan used in an office or residential application and having the motor and impeller enclosed in an approximately square box frame having a handle”); and (4) table fans (“a fan intended for use on a desk, table or countertop. The fan may also be provided with the means for mounting to a wall”). See Sections 5.1.2 through 5.1.5 of AMCA 230-15.

ANSI/AMCA Standard 214-21, “Test Procedure for Calculating Fan Energy Index for Commercial and Industrial Fans and Blowers” (“AMCA 214-21”) ¹¹ defines a “circulating fan” as “a fan that is not a ceiling fan that is used to move air within a space that has no provision for connection to ducting or separation of the fan inlet from its outlet. The fan is designed to be used for the general circulation of air”. (See Section 3.15 of AMCA 214-21) AMCA 214-21 does not define ACFHs.

¹¹ AMCA 214-21 was approved by ANSI on March 1, 2021.

DOE reviewed the existing definitions of ACFHs, air circulating fan, and circulating fan, and marketing material for this equipment,¹² and determined that certain ACFHs are designed for use in commercial and industrial applications and meet the definition of fans and blowers as they are rotary bladed machines that convert electrical power to air power, have an energy output limited to 25 kJ/kg and consist of an impeller, a shaft and bearings and, as well as a structure or housing. When establishing the proposed definitions to support any potential test procedure for ACFHs, DOE will consider whether existing definitions in industry standards can be used. DOE is reviewing AMCA 214-21, and AMCA 230-15 and is interested in collecting additional information that would help in establishing definitions.

¹² See for example: www.industrialfansdirect.com/collections/air-circulator-fans/air-circulator-fan-heads-and-mounts; www.grainger.com/category/hvac-and-refrigeration/cooling-fans/industrial-cooling-fans/industrial-fan-heads.

Issue 1: DOE seeks input and comments on the definition of air circulating fan and ACFH as specified in AMCA 230-15. If these definitions are not appropriate, DOE seeks input on how they should be amended and why. Specifically, DOE seeks feedback on whether the definition of ACFH should also specify a maximum value of diameter-to-maximum operating speed ratio (e.g., 0.06 in/RPM) to distinguish ACFHs from ceiling fans.

Issue 2: DOE requests comments on whether it should consider limiting the definition of ACFHs based on the fan's electrical input power, or any other characteristic that would allow identifying ACFHs that are to any significant extent distributed in commerce for industrial or commercial use. DOE seeks information to support any recommendation to limit the definition of ACFHs based on fan electrical input power or any other characteristics.

Issue 3: DOE requests comments on whether it should consider test procedures for additional categories of air circulating fans other than ACFHs, specifically, personnel coolers, box fans, or table fans that meet the definition of “fan and blower”.

2. Scope

When establishing the proposed scope of any potential test procedure, DOE may consider whether to specify additional design characteristics (e.g., fan impeller blade tip diameter) to identify ACFHs that would be in the scope of any potential test procedures.

Issue 4: DOE requests comments on whether it should consider limiting the scope of any potential test procedure for ACFHs based on the fan's impeller blade tip diameter, or any other physical design characteristic. DOE seeks information to support any potential exclusions from the scope of potential test procedures.

C. Test Procedure for ACFHs

As noted, there are currently no DOE test procedures for ACFHs.

1. Industry Standards

DOE's established practice is to adopt industry standards as DOE test procedures unless such methodology would be unduly burdensome to conduct or would not produce test results that reflect the energy efficiency, energy use, water use (as specified in EPCA) or estimated operating costs of that product during a representative average use cycle. 10 CFR 431.4; 10 CFR part 430 subpart C appendix A section 8(c). In cases where the industry standard does not meet EPCA statutory criteria for test procedures, DOE will make modifications through the rulemaking process to these standards as the DOE test procedure.

AMCA 214-21 provides methods to establish the fan electrical input power (“FEP”) in kilowatts (“kW”) and fan energy index ¹³ (“FEI”) for various categories of fans, either by: (1) The measurement of the electrical input power to the fan (i.e., a “wire-to-air” test); or by (2) the measurement of the fan shaft power and the application of calculation algorithms to reflect additional motor, transmission, or control energy use. AMCA 214-21 references AMCA 230-15 ¹⁴ as the industry test procedure to follow when conducting performance measurements on air circulating fans, including ACFHs.

¹³ The FEI of a fan at a given operating point is a dimensionless index defined as the FEP (kW) of a theoretical reference fan described in Section 5 of AMCA 214-21, divided by the actual FEP (kW) of the fan at the same operating point as described in Section 6 of AMCA 241-21. See section 4 of AMCA 214-21.

¹⁴ AMCA 230-15 provides methods for conducting laboratory tests to determine the performance characteristics of circulating fans including the FEP in Watts (“W”), speed in RPM, pressure in inch of mercury, airflow in cfm, thrust in pound force (lbf), efficacy in cfm/W, and overall efficiency in lbf/W.

Issue 5: DOE seeks feedback on whether AMCA 214-21 and AMCA 230-15 would be appropriate for adoption in a potential Federal test procedure for ACFHs. If using AMCA 214-21 and AMCA 230-15 is not appropriate, DOE seeks input on how AMCA 214-21 and AMCA 230-15 should be amended and why, and on any other industry test standard that would be more appropriate.

Issue 6: DOE seeks information and data to assist in evaluating the repeatability and reproducibility of AMCA 214-21 and AMCA 230-15 as applied to ACFHs. DOE seeks input on whether any changes to AMCA 214-21 and AMCA 230-15 are needed to increase its repeatability and reproducibility.

Issue 7: DOE seeks information on whether changes to AMCA 214-21 and AMCA 230-15 are needed to allow for representative energy efficiency ratings for ACFHs, and whether such changes would increase test burden.

2. Metric

AMCA 214-21 provides uniform methods to determine the FEP and FEI of a fan at a given duty point.¹⁵ As explained, FEP describes the electrical input power of a fan in kilowatts. AMCA 214-21 defines FEI as the ratio of the electrical input power of a reference fan to the electrical input power of the actual fan for which the FEI is calculated, both established at the same duty point. FEI is a dimensionless index designed to facilitate the evaluation of a fan's performance against a reference fan. Section 5 of AMCA 214-21 provides the equations necessary to calculate the reference fan electrical input power as a function of airflow and pressure.

¹⁵ A duty point is characterized by a given airflow and pressure and has a corresponding operating speed. AMCA 214 provides methods to establish the FEP and FEI at any duty point within the operating range of the fan.

AMCA 230-15 provides methods to determine the FEP of air circulating fans (including ACFHs) as well as efficacy (i.e., amount of flow per unit of electrical input power produced in cubic feet per minute per watt (“cfm/W”)) and overall efficiency (i.e., amount of thrust per unit of electrical input power produced in pound-force per watt (“lbf/W”)).

DOE is reviewing the metrics in AMCA 214-21 and AMCA 230-15 and is interested in collecting additional information that would help evaluate use of these metrics in a Federal test procedure.

Issue 8: DOE requests comment on whether the FEP metric (obtained in accordance with AMCA 214-21) is appropriate for adoption in the Federal test procedure for ACFHs, and on whether any changes are necessary to allow for more representative energy efficiency ratings, and whether these changes would increase test burden. If the metrics on AMCA 214-21 are not appropriate, DOE seeks input on how the metrics should be amended and why, and on any other metrics that would be more appropriate. Specifically, DOE requests comment on whether it should consider other performance metrics as measured by AMCA 230-15, such as efficacy and overall efficiency.

3. Sampling

DOE provides sampling provisions for determining represented values of energy use or efficiency of a covered product or equipment. See generally 10 CFR part 429 and 10 CFR part 431. These sampling provisions provide uniform statistical methods that require testing a sample of units that is large enough to account for reasonable manufacturing variability among individual units of a basic model, or variability in the test methodology, such that the test results for the overall sample will be reasonably representative of the efficiency of that basic model.

The basic model concept allows manufacturers to group like models for the purpose of DOE's certification requirements, thereby reducing the burden placed on manufacturers by streamlining the amount of testing they must do to rate the energy use or efficiency of their product. DOE's current regulations provide equipment-specific basic model definitions, which typically state that models within the same basic model group have “essentially identical” energy or water use characteristics.¹⁶

¹⁶ See 10 CFR 431.12, 431.62, 431.82, 431.102, 431.132, 431.152, 431.202, 431.222, 431.242, 431.262, 431.292, 431.302, 431.322, 431.442, and 431.462.

The general sampling requirement currently applicable to all covered products and equipment provides that a sample of sufficient size must be randomly selected and tested and that, unless otherwise specified, a minimum of two units must be tested to certify a basic model. 10 CFR 429.11. This minimum is implicit in the requirement to calculate a mean—an average—which requires at least two values. Manufacturers can increase their sample size to narrow the margin of error.

Issue 9: DOE seeks information on whether the statistical sampling plans used for other commercial and industrial equipment at 10 CFR part 429 would be appropriate for ACFHs. If not, DOE requests information and data to explain why not, and what changes would be appropriate.

III. Submission of Comments

DOE invites all interested parties to submit in writing by the date specified under the DATES heading, comments and information on matters addressed in this RFI and on other matters relevant to DOE's consideration of amended test procedures for fans and blowers. These comments and information will aid in the development of a test procedure NOPR for fans and blowers if DOE determines that test procedures may be appropriate for this equipment.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Following this instruction, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email two well-marked copies: One copy of the document marked confidential including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signing Authority

This document of the Department of Energy was signed on September 27, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 28, 2021.
Treena V. Garrett,
Federal Register Liaison Officer, U.S. Department of Energy.

[FR Doc. 2021-21387 Filed 9-30-21; 8:45 am]

BILLING CODE 6450-01-P